DEPARTMENT OF TRANSPORTATION

Federal Aviation Administration

14 CFR Part 71

[Docket No. FAA-2021-0920; Airspace Docket No. 21-ASW-7]

RIN 2120-AA66

Establishment of United States Area Navigation (RNAV) Routes; South and Central United States

AGENCY: Federal Aviation Administration (FAA), DOT.

ACTION: Final rule.

SUMMARY: This action establishes three United States Area Navigation (RNAV) routes, designated T-370, T-398, and T-419, in the south and central United States. These routes supplement certain VHF Omnidirectional Range (VOR) Federal airways in support of the VOR Minimum Operational Network (MON) program, and they expand the availability of RNAV routing in the National Airspace System (NAS).

DATES: Effective date 0901 UTC, May 19, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking for Docket No. FAA-2021-0920, in the Federal Register (86 FR 60186; November 1, 2021), to establish new RNAV routes T-370, T-398, and T-419 in the southern and central United States. Interested parties were invited to participate in this rulemaking effort by submitting written comments on the proposal. One comment was received, but no specifics pertaining to the proposal were included.

United States RNAV T-routes are published in paragraph 6011 of FAA Order JO 7400.11F, dated August 10, 2021, and effective September 15, 2021, which is incorporated by reference in 14 CFR 71.1. The RNAV routes listed in this document would be subsequently published in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by establishing three new RNAV routes T-370, T-398, and T-419 in the southern and central United States. These routes overlie certain VOR Federal airways that are based on navigation aids (NAVAIDs) that are planned for decommissioning under the FAA's VOR MON program. The new routes are described below.

T-370: T-370 extends between the BURBIN, TX, waypoint (WP) and the VLKNN, AL, WP. T-370 overlies VOR Federal airway V-278 that extends between the Bowie, TX, (UKW) VHF Omnidirectional Range Tactical Air Navigation (VORTAC), and the Vulcan, AL, (VUZ) VORTAC. A number of navigation aids (NAVAIDs) that currently form V-278 are planned for decommissioning. Therefore, in the T-370 description, those NAVAIDs are replaced by RNAV WPs as follows. The BURBN, TX, WP replaces the Bowie, TX, (UKW) VORTAC. The RRORY, TX, WP replaces the Bonham, TX, (BYP) VORTAC. The TASEY, TX, WP replaces the Paris, TX, (PRX) VOR/DME. The SLOTH, TX, WP replaces the Texarkana, TX, (TXK) VORTAC. The RICKG, AR, WP replaces the Monticello, AR, (MON) VOR/DME. The EJKSN, MS, WP replaces the Greenville, MS, (GLH) VOR/DME. The IZAAC, MS, WP replaces the Sidon, MS, (SQS) VORTAC. The SKNNR, MS, WP replaces the Bigbee, MS, (IGB) VORTAC. The VLKNN, AL, WP replaces the Vulcan, AL, (VUZ) VORTAC.

T-398: T-398 extends between the SLOTH, TX, WP, and the GMINI, NC, WP. T-398 overlies VOR Federal airway V-54 that currently extends between the Texarkana, TX, (TXK) VORTAC, and the Sandhills, NC, (SDZ) VORTAC. A number of NAVAIDs that currently form V-54 are planned for future decommissioning. Therefore, in the T-398 description, those NAVAIDs are replaced by WPs as follows. The SLOTH, TX, WP replaces the Texarkana, TX, (TXK) VORTAC. The LITTR, AR, WP replaces the Little Rock, AR, (LIT) VORTAC. The EMEEY, AR, WP replaces the Marvell, AR, (UJM) VOR/DME. The GOINS, MS, WP replaces the Holly Springs, MS, (HLI) VORTAC. The HAGIE, AL, WP replaces the Muscle Shoals, AL, (MSL) VORTAC. The FILUN, AL, WP replaces the Rocket, AL, (RQZ) VORTAC. The JILIS, GA, WP replaces the Choo Choo, TN, (GQO) VORTAC. The BALNN, GA, WP replaces the Harris, GA, (HRS) VORTAC. The BURGG, SC, WP replaces the Spartanburg, SC, (SPA) VORTAC. The CRLNA, NC, WP replaces the Charlotte, NC, (CLT) VOR/DME. The GMINI, NC, WP replaces the Sandhills, NC, (SDZ) VORTAC.

T-419: T-419 extends between the MAHTY, AR, WP, and the TERGE, IN, WP. T-419 overlies those segments of VOR Federal airway V-305 that extend between the Walnut Ridge, AR, (ARG) VORTAC, and the Pocket City, IN, (PXV) VORTAC. A number of NAVAIDs that currently form V-305 are planned for future decommissioning. Therefore, in the T-419 description, those NAVAIDs are replaced by WPs as follows. The MAHTY, AR, WP replaces the Walnut Ridge, AR, (ARG) VORTAC. The FRNIA, MO, WP replaces the Malden, MO, (MAW) VORTAC. The MESSR, KY, WP replaces the Cunningham, KY, (CNG) VOR/DME. The TERGE, IN, WP replaces the Pocket City, IN, (PXV) VORTAC.

The full route legal descriptions of T-370, T-398, and T-419 are listed in “The Amendment” section, below. These changes provide RNAV routing to supplement VOR Federal airways that will be impacted by the VOR MON program, and support the transition to a more efficient Performance Based Navigation route structure.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing three RNAV routes T-370, T-398, and T-419, in support of efforts transitioning the NAS from ground-based to satellite-based navigation, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .” As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6011 United States Area Navigation Routes.

* * * * *

T-370 BURBN, TX to VLKNN, AL [New]
BURBN, TX | WP | (Lat. 33°32′09.20″N, long. 097°49′15.83″W)
RRORY, TX | WP | (Lat. 33°32′14.95″N, long. 096°14′03.45″W)
TASEY, TX | WP | (Lat. 33°32′32.56″N, long. 095°26′54.55″W)
SLOTH, TX | WP | (Lat. 33°30′49.99″N, long. 094°04′24.38″W)
RICKG, AR | WP | (Lat. 33°33′43.12″N, long. 091°42′56.29″W)
EJKSN, MS | WP | (Lat. 33°31′24.65″N, long. 090°58′57.87″W)
IZAAC, MS | WP | (Lat. 33°27′49.87″N, long. 090°16′37.75″W)
SKNRR, MS | WP | (Lat. 33°29′07.75″N, long. 088°30′49.63″W)
BESOM, AL | Fix | (Lat. 33°35′10.73″N, long. 087°39′23.49″W)
NESTS, AL | WP | (Lat. 33°36′53.34″N, long. 087°20′51.86″W)
VLKNN, AL | WP | (Lat. 33°40′12.47″N, long. 086°53′58.83″W)
* * * * * * *
T-398 SLOTH, TX to GMINI, NC [New]
SLOTH, TX | WP | (Lat. 33°30′49.99″N, long. 094°04′24.38″W)
MUFRE, AR | Fix | (Lat. 34°05′31.32″N, long. 093°10′43.80″W)
LITTR, AR | WP | (Lat. 34°40′39.90″N, long. 092°10′49.26″W)
EMEEY, AR | WP | (Lat. 34°34′30.29″N, long. 090°40′27.14″W)
GOINS, MS | WP | (Lat. 34°46′12.64″N, long. 089°29′46.81″W)
HAGIE, AL | WP | (Lat. 34°42′25.87″N, long. 087°29′29.76″W)
FILUN, AL | WP | (Lat. 34°47′50.14″N, long. 086°38′01.14″W)
JILIS, GA | WP | (Lat. 34°57′23.98″N, long. 085°08′03.46″W)
CRAND, GA | Fix | (Lat. 34°57′28.88″N, long. 084°51′20.59″W)
BALNN, GA | WP | (Lat. 34°56′34.20″N, long. 083°54′56.42″W)
BURGG, SC | WP | (Lat. 35°02′00.55″N, long. 081°55′36.86″W)
GAFFE, SC | Fix | (Lat. 35°05′38.90″N, long. 081°33′23.92″W)
CRLNA, NC | WP | (Lat. 35°12′49.48″N, long. 080°56′57.32″W)
LOCAS, NC | Fix | (Lat. 35°12′05.18″N, long. 080°26′44.89″W)
RELPY, NC | Fix | (Lat. 35°12′45.70″N, long. 079°47′28.76″W)
GMINI, NC | WP | (Lat. 35°12′23.01″N, long. 079°34′01.98″W)
* * * * * * *
T-419 MAHTY, AR to TERGE, IN [New]
MAHTY, AR | WP | (Lat. 36°06′36.35″N, long. 090°57′12.65″W)
FRNIA, MO | WP | (Lat. 36°33′18.69″N, long. 089°54′40.47″W)
MESSR, KY | WP | (Lat. 37°00′30.44″N, long. 088°50′13.16″W)
TERGE, IN | WP | (Lat. 37°55′42.47″N, long. 087°45′44.19″W)

* * * * *

Issued in Washington, DC, on March 9, 2022.
Scott M. Rosenbloom,
Manager, Airspace Rules and Regulations.

[FR Doc. 2022-05340 Filed 3-14-22; 8:45 am]

BILLING CODE 4910-13-P